DEPARTMENT OF THE INTERIOR

National Park Service

[N6775; NPS-WASO-NAGPRA-NPS0041541; PPWOCRADN0-PCU00RP14.R50000]

Notice of Intended Repatriation: U.S. Department of the Interior, Bureau of Indian Affairs, Washington, DC, and University of California, Berkeley, Berkeley, CA

AGENCY: National Park Service, Interior.

ACTION: Notice.

SUMMARY: In accordance with the Native American Graves Protection and Repatriation Act (NAGPRA), the U.S. Department of the Interior, Bureau of Indian Affairs (BIA) and University of California, Berkeley intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Tamara Billie, U.S. Department of the Interior, Bureau of Indian Affairs, 1001 Indian School Road NW, Mailbox 44, Albuquerque, NM 87104, email tamara.billie@bia.gov.

SUPPLEMENTARY INFORMATION: This notice is published as part of the National Park Service's administrative responsibilities under NAGPRA. The determinations in this notice are the sole responsibility of the U.S. Department of the Interior, Bureau of Indian Affairs (BIA), and additional information on the determinations in this notice, including the results of consultation, can be found in the summary or related records. The National Park Service is not responsible for the determinations in this notice.

Abstract of Information Available

A total of 13 cultural items have been requested for repatriation. The 13 objects of cultural patrimony were removed in 1956 by F.J. Johnston and P.H. Johnston from sites CA-RIV-74 and CA-RIV-84 in Riverside County, California, during a University of California Archaeological Survey. These objects include pottery, faunal remains, and lithics. They were accessioned into the University of California Museum of Anthropology (now the Phoebe A. Hearst Museum of Anthropology) later that same year.

Collections and collection spaces at the Phoebe A. Hearst Museum of Anthropology were treated with substances for preservation and pest control, some of which are potentially hazardous. No records have been found to date at the Museum to indicate whether chemicals or natural substances were used before 1960.

Determinations

The BIA has determined that:

• The 13 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Morongo Band of Mission Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the U.S. Department of the Interior, Bureau of Indian Affairs (BIA) must determine the most appropriate requestor prior to repatriation. Requests for joint repatriation of the cultural items are considered a single request and not competing requests. The U.S. Department of the Interior, Bureau of Indian Affairs (BIA) is responsible for sending a copy of this notice to the Indian Tribes and Native Hawaiian organizations identified in this notice and to any other consulting parties.

Authority: Native American Graves Protection and Repatriation Act, 25 U.S.C. 3004 and the implementing regulations, 43 CFR 10.9.

Dated: December 4, 2025.
Melanie O'Brien,
Manager, National NAGPRA Program.

[FR Doc. 2025-23347 Filed 12-18-25; 8:45 am]

BILLING CODE 4312-52-P